DEPARTMENT OF STATE

Office of the Coordinator for Counterterrorism

[Public Notice 3795]

Redesignation of Foreign Terrorist Organization

AGENCY: Department of State.

ACTION: Redesignation of foreign terrorist organizations.

Pursuant to Section 219 of the Immigration and Nationality Act (“INA”), as added by the Antiterrorism and Effective Death Penalty Act of 1996, Pub. L. No. 104-132, § 302, 110 Stat. 1214, 1248 (1996), and amended by the Illegal Immigration Reform and Immigrant Responsibility Act of 1996, Pub. L. No. 104-208, 110 Stat. 3009 (1996), the Secretary of State hereby redesignates, effective October 5, 2001, the following organizations as foreign terrorist organizations:

Abu Nidal Organization

Also known as ANO

Also known as Black September

Also known as the Fatah Revolutionary Council

Also known as the Arab Revolutionary Council

Also known as the Arab Revolutionary Brigades

Also known as the Revolutionary Organization of Socialist Muslims

Abu Sayyaf Group

Also known as Al Harakat Al Islamiyya

Armed Islamic Group

Also known as GIA

Also known as Groupement Islamique Arme

Also known as Al-Jama'ah al-Islamiyah al-Musallah

Aum Shinrikyo

Also known as Aleph

Also known as Aum Supreme Truth

Also known as A.I.C. Sogo Kenkyusho

Also known as A.I.C. Comprehensive Research Institute

Basque Fatherland and Liberty

Also known as Euzkadi Ta Askatasuna

Also known as ETA

Gama'a al-Islamiyya

Also known as the Islamic Group

Also known as IG

Also known as al-Gama'at

Also known as Islamic Gama'at

Also known as Egyptian al-Gama'at al-Islamiyya

Also known as GI

Hamas

Also known as the Islamic Resistance Movement

Also known as Harakat al-Muqawama al-Islamiya

Also known as Students of Ayyash

Also known as Students of the Engineer

Also known as Yahya Ayyash Units

Also known as Izz Al-Din Al-Qassim Brigades

Also known as Izz Al-Din Al-Qassim Forces

Also known as Izz Al-Din Al-Qassim Battalions

Also known as Izz al-Din Al Qassam Brigades

Also known as Izz al-Din Al Qassam Forces

Also known as Izz al-Din Al Qassam Battalions

Harakat ul-Mujahideen

Also known as HUM

Also known as Harakat ul-Ansar

Also known as HUA

Hizballah

Also known as the Party of God

Also known as Islamic Jihad

Also known as Islamic Jihad Organization

Also known as Revolutionary Justice Organization

Also known as Organization of the Oppressed on Earth

Also known as Islamic Jihad for the Liberation of Palestine

Also known as Organization of Right Against Wrong

Also known as Ansar Allah

Also known as Followers of the Prophet Muhammed

al-Jihad

Also known as Egyptian al-Jihad

Also known as New Jihad

Also known as Egyptian Islamic Jihad

Also known as Jihad Group

Kahane Chai

Also known as Kach

Also known as Kahane Lives

Also known as the Kfar Tapuah Fund

Also known as The Judean Voice

Also known as The Judean Legion

Also known as The Way of the Torah

Also known as The Yeshiva of the Jewish Idea

Also known as the Repression of Traitors

Also known as Dikuy Bogdim

Also known as DOV

Also known as the State of Judea

Also known as the Committee for the Safety of the Roads

Also known as the Sword of David

Also known as Judea Police

Also known as Forefront of the Idea

Also known as The Qomemiyut Movement

and

Also known as KOACH

Kurdistan Workers' Party

Also known as the PKK

Also known as Partiya Karkeran Kurdistan

Also known as the People's Defense Force

Also known as Halu Mesru Savunma Kuvveti (HSK)

Liberation Tigers of Tamil Eelam

Also known as LTTE

Also known as Tamil Tigers

Also known as Ellalan Force

Mujahedin-e Khalq Organization

Also known as MEK

Also known as MKO

Also known as Mujahedin-e Khalq

Also known as People's Mujahedin Organization of Iran

Also known as PMOI

Also known as Organization of the People's Holy Warriors of Iran

Also known as Sazeman-e Mujahedin-e Khalq-e Iran

Also known as National Council of Resistance

Also known as NCR

Also known as National Council of Resistance of Iran

Also known as NCRI

Also known as the National Liberation Army of Iran

Also known as NLA

National Liberation Army

Also known as the ELN,

Also known as Ejercito de Liberacion Nacional

Palestine Islamic Jihad-Shaqaqi Faction

Also known as PIJ-Shaqaqi Faction

Also known as PIJ-Shallah Faction

Also known as Palestinian Islamic Jihad

Also known as PIJ

Also known as Islamic Jihad of Palestine

Also known as Islamic Jihad in Palestine

Also known as Abu Ghunaym Squad of the Hizballah Bayt Al-Maqdis

Also known as the Al-Quds Squads

Also known as the Al-Quds Brigades

Also known as Saraya Al-Quds

Also known as Al-Awdah Brigades

Palestine Liberation Front-Abu Abbas Faction

Also known as the Palestine Liberation Front

Also known as the PLF

Also known as PLF-Abu Abbas

Popular Front for the Liberation of Palestine

Also known as the PFLP

Also known as the Red Eagles

Also known as the Red Eagle Group

Also known as the Red Eagle Gang

Also known as the Halhul Gang

Also known as the Halhul Squad

Also known as Palestinian Popular Resistance Forces

Also known as PPRF

Popular Front for the Liberation of Palestine-General Command

Also known as PFLP-GC

al Qa'ida

Also known as al Qaeda

Also known as “the Base”

Also known as the Islamic Army

Also known as the World Islamic Front for Jihad Against Jews and Crusaders

Also known as the Islamic Army for the Liberation of the Holy Places

Also known as the Usama Bin Laden Network

Also known as the Usama Bin Laden Organization

Also known as Islamic Salvation Foundation

Also known as The Group for the Preservation of the Holy Sites

Revolutionary Armed Forces of Colombia

Also known as FARC

Also known as Fuerzas Armadas Revolucionarias de Colombia

Revolutionary Nuclei

Also known as the Revolutionary People's Struggle

Also known as Epanastatikos Laikos Agonas

Also known as ELA

Also known as Revolutionary Popular Struggle

Also known as Popular Revolutionary Struggle

Also known as June 78

Also known as Organization of Revolutionary Internationalist Solidarity

Also known as Revolutionary Cells

Also known as Liberation Struggle

Revolutionary Organization 17 November

Also known as 17 November

Also known as Epanastatiki Organosi 17 Noemvri

Revolutionary People's Liberation Party/Front

Also known as Devrimci Halk Kurtulus Partisi-Cephesi

Also known as the DHKP/C

Also known as Devrimci Sol

Also known as Revolutionary Left

Also known as Dev Sol

Also known as Dev Sol Silahli Devrimci Birlikleri

Also known as Dev Sol SDB

Also known as Dev Sol Armed Revolutionary Units

Shining Path

Also known in Spanish as Sendero Luminoso

Also known as SL

Also known as Partido Comunista del Peru en el Sendero Luminoso de Jose Carlos Mariategui

Also known as Communist Party of Peru on the Shining Path of Jose Carlos Mariategui

Also known as Partido Comunista del Peru

Also known as Communist Party of Peru

Also known as PCP

Also known as Socorro Popular del Peru

Also known as People's Aid of Peru

Also known as SPP

Also known as Ejercito Guerrillero Popular

Also known as People's Guerrilla Army

Also known as EGP

Also known as Ejercito Popular de Liberacion

Also known as People's Liberation Army

Also known as the EPL.

Dated: September 28, 2001.
Francis X. Taylor,
Coordinator for Counterterrorism, Department of State.

[FR Doc. 01-24911 Filed 10-4-01; 8:45 am]

BILLING CODE 4910-10-P